DEPARTMENT OF JUSTICE

Antitrust Division

Notice Pursuant to the National Cooperative Research and Production Act Of 1993—National Center for Manufacturing Sciences, Inc.

Notice is hereby given that, on February 5, 2013, pursuant to Section 6(a) of the National Cooperative Research and Production Act of 1993, 15 U.S.C. 4301 et seq. (“the Act”), National Center for Manufacturing Sciences, Inc. (“NCMS”) has filed written notifications simultaneously with the Attorney General and the Federal Trade Commission disclosing changes in its membership. The notifications were filed for the purpose of extending the Act's provisions limiting the recovery of antitrust plaintiffs to actual damages under specified circumstances. Specifically, the following members have been added as parties to this venture: Anglicotech, LLC, Washington, DC; Applied Technology Integration, Inc. (ATI), Maumee, OH; BDM Associates, Long Beach, CA; Equipois, Inc., Los Angeles, CA; General Motors LLC, Pontiac, MI; KALO, LLC, Arlington, VA; Industrial Technology Institute, dba Michigan Manufacturing Technology Center (MMTC), Plymouth, MI; Macro USA Corporation, McClellan, CA; Michigan Department of Environmental Quality (MDEQ), Lansing, MI; Onodi Tool and Engineering Company, Melvindale, MI; One Network Enterprises, Inc., Dallas, TX; PARC, a Xerox Company, Palo Alto, CA; The Procter & Gamble Company, Cincinnati, OH; QinetiQ North America, Waltham, MA; Russells Technical Products, Inc., Holland, MI; Siemens Product Lifecycle Management Software, Inc., Plano, TX; Tactical Edge, LLC, San Diego, CA; Terascala, Inc., Avon, MA; Tracen Technologies, Inc., Manassas, VA; Troika Solutions, LLC, Bloomington, MN; University of Alabama, Tuscaloosa, AL; University of Dayton Research Institute, Dayton, OH; University of Michigan, Ann Arbor, MI; Whitney, Bradley & Brown, Inc., Reston, VA; and Workforce Intelligence Network of Southeast Michigan (WIN), Detroit, MI.

Also, the following members have withdrawn as parties to this venture: Albright Strategy Group, LLC, Morristown, NJ; Automated Precision, Inc., Rockville, MD; Battelle, Centerville, OH; Betis Group, Inc., Arlington, VA; CIMS at Rochester Institute of Technology, Rochester, NY; Climax Portable Machine Tools, Inc., Newberg, OR; Clockwork Solutions, Inc., Austin, TX; Diamond Nets Inc., Everson, WA; Eastern Michigan University, Ypsilanti, MI; Edison Welding Institute, Columbus, OH; Emerson Process Management, Billerica, MA; Henry Ford Healthcare, Detroit, MI; Honeywell Process Solutions, Phoenix, AZ; InTheWorks, Bainbridge Island, WA; Knovalent, Ann Arbor, MI; The Marlin Group, Inc., Arlington, VA; OBD Solutions, Phoenix, AZ; Picometrix, LLC, Ann Arbor, MI; Plasan Carbon Composites, Bennington, VT; Osterhout Group, Inc., San Francisco, CA; The POM Group, Auburn Hills, MI; QinetiQ, Reston, VA; SenGenuity, Westbrook, ME; SpaceForm Welding Solutions, Inc., Madison Heights, MI; Toyota Motor Engineering & Manufacturing NA, Erlanger, KY; University of Texas-Austin, Austin, TX; and Wend Associates, Inc., Marine City, MI.

No other changes have been made in either the membership or planned activity of the group research project. Membership in this group research project remains open, and NCMS intends to file additional written notifications disclosing all changes in membership.

On February 20, 1987, NCMS filed its original notification pursuant to Section 6(a) of the Act. The Department of Justice published a notice in the Federal Register pursuant to Section 6(b) of the Act on March 17, 1987 (52 FR 8375).

The last notification was filed with the Department on February April 30, 2012. A notice was published in the Federal Register pursuant to Section 6(b) of the Act on June 8, 2012 (77 FR 34068).

Patricia A. Brink,
Director of Civil Enforcement, Antitrust Division.

[FR Doc. 2013-05305 Filed 3-6-13; 8:45 am]

BILLING CODE P